DEPARTMENT OF LABOR

Employment and Training Administration

[TA-W-52,525]

Alcatel Internetworking (PE), Spokane, Washington; Notice of Revised Determination on Reconsideration

On November 14, 2003, the Department issued an affirmative determination regarding application on reconsideration applicable to workers and former workers of the subject firm. The notice will soon be published in the Federal Register.

The Department's negative determination notice was signed on August 29, 2003, and was published in the Federal Register on September 17, 2003 (68 FR 54497). The initial determination stated that the subject worker group did not engage in production but provided engineering and technical support services.

On review of new information provided by the petitioner and the company official, it has been determined that the subject worker group are engaged in the production of router switches, that a significant portion of their functions included testing, repair, and re-packaging, and that a significant portion of this production was shifted from the subject facility to Canada, impacting workers of the subject firm.

Conclusion

After careful review of the additional facts obtained on reconsideration, I conclude that the shift of production to Canada of articles like or directly competitive with those produced at the subject form contributed importantly to the declines in sales or production and to the total or partial separation of workers at the subject firm. In accordance with the provisions of the Act, I make the following certification:

All workers of Alcatel Internetworking (PE), Spokane, Washington, who became totally or partially separated from employment on or after August 5, 2002, through two years from the date of this certification, are eligible to apply for adjustment assistance under section 223 of the Trade Act of 1974.

Signed in Washington, DC this 12th day of December, 2003.
Elliott S. Kushner,
Certifying Officer, Division of Trade Adjustment Assistance.

[FR Doc. 04-306 Filed 1-6-04; 8:45 am]

BILLING CODE 4510-30-P